FEDERAL RETIREMENT THRIFT INVESTMENT BOARD

Meeting

December 17, 2018, 11:00 a.m. (Telephonic)

Open Session

1. Approval of the minutes for the November 27, 2018 Board Member Meeting

2. Monthly Reports

(a) Participant Activity

(b) Legislative Report

(c) Investment Performance

3. 2018 Internal Audit Update

4. 2019 Proposed Internal Audit Schedule

5. Vendor Risk Management Update

6. Enterprise Risk Management Update

Executive Session

Material covered by 5 U.S.C. (c)(4).

Contact Person for More Information:

Kimberly Weaver, Director, Office of External Affairs, (202) 942-1640.

Dated: December 7, 2018.
Megan G. Grumbine,
General Counsel, Federal Retirement Thrift Investment Board.

[FR Doc. 2018-26864 Filed 12-11-18; 8:45 am]

BILLING CODE P